DEPARTMENT OF TRANSPORTATION

Federal Aviation Administration

14 CFR Part 71

[Docket No. FAA-2015-1650; Airspace Docket No. 14-AEA-8]

RIN 2120-AA66

Amendment of VOR Federal Airways; Northeastern United States

AGENCY: Federal Aviation Administration (FAA), DOT.

ACTION: Final rule.

SUMMARY: This action amends VOR Federal Airways V-31, V-36, V-98, V-164 and V-252 by removing from the route descriptions, those segments that extend into and/or through Canadian airspace. This action is necessary to match route changes made by Canada as part of the Windsor-Toronto-Montreal (W-T-M) project. The route segments in Canada are no longer in effect; therefore, the United States has issued Notices to Airmen (NOTAM) identifying the affected segments as “not authorized” pending the deletion of the segments from the route descriptions through this rulemaking action.

DATES: Effective date: 0901 UTC, August 20, 2015. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call (202) 741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: (202) 267-8783.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it is merely an editorial change to the legal descriptions of V-31, V-36, V-98, V-164 and V-252 to reflect changes in the Canadian route structure.

Background

This action amends VOR Federal airways V-31, V-36, V-98, V-164 and V-252 as a result of the Windsor-Toronto-Montreal (W-T-M) and Northeast United States Cross-border Airspace Modernization and Redesign initiative. NavCanada, in an effort to transition to an Area Navigation (RNAV) route system, removed a number of conventional airways, many of which crossed the United States/Canadian border. The airways listed above with the exception of V-98 were part of that initiative that became effective on November 13, 2014 (79 FR 57758). Canadian segments of V-98 were subsequently removed by Canada in January 2015. Coordination for the modification of the Federal airways listed above was not completed in time for inclusion in the November 13, 2014, docket action. Currently, the United States has issued regulatory Notices to Airman (NOTAM) classifying the segments of the above listed airways lying within Canadian airspace as “not authorized.”

This action is required to match the changes in the Canadian route structure. It will enhance safety within the National Airspace System and will facilitate a seamless air traffic route system between the two countries.

Availability and Summary of Documents for Incorporation by Reference

This document amends FAA Order 7400.9Y, Airspace Designations and Reporting Points, dated August 6, 2014, and effective September 15, 2014. FAA Order 7400.9Y is publicly available as listed in the ADDRESSES section of this final rule. FAA Order 7400.9Y lists Class A, B, C, D, and E airspace areas, air traffic service routes, and reporting points.

The Rule

This action amends Title 14 Code of Federal Regulations (14 CFR) part 71 by removing those former route segments in Canadian airspace from the descriptions of VOR Federal airways V-31, V-36, V-98, V-164 and V-252. This action aligns the United States airways with route changes instituted by Canada as part of NavCanada's W-T-M project.

The following is a summary of the specific changes by route. Where new navigation aid radials are designated, both True and Magnetic degrees are stated. Otherwise, only True degrees are shown.

V-31 The segment between the intersection of the Rochester 279° and the Toronto, Canada 150° radials is removed and a new end point formed by the intersection of the Rochester 279° and the Buffalo, NY 023°(T)/031°(M) radials is inserted.

V-36 The segments between Thunder Bay, ON, Canada and the intersection of the Toronto and Buffalo radials is removed, The amended route extends between Buffalo, NY and the intersection of the LaGuardia, NY 310° and the Stillwater, NJ 043° radials as currently published.

V-98 The segments between Windsor, ON, Canada and St. Jean, PQ, Canada are removed.

V-164 The segment between Toronto, ON, Canada and Buffalo, NY is removed. The amended route extends between Buffalo and East Texas, PA as currently published.

V-252 The segment between Toronto, ON, Canada and the intersection of the Toronto 116° and the Geneseo, NY 305° radials is removed. A new start point formed by the intersection of the Buffalo, NY 023°(T)/031°(M) and the Geneseo 305° radials is inserted. The remainder of the route to Dupont, DE, is unchanged,

In the regulatory text, below, only True degrees are listed when defining radials.

Since this action involves removing from the descriptions of VOR Federal airways V-31, V-36, V-98, V-164 and V-252, those route segments in Canada that have previously been cancelled, I find that notice and public procedures under 5 U.S.C. 553(b) are unnecessary.

Regulatory Notices and Analyses

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Domestic VOR Federal Airways are published in paragraph 6010(a) of FAA Order 7400.9Y, dated August 6, 2014, and effective September 15, 2014, which is incorporated by reference in 14 CFR 71.1. The VOR Federal Airways listed in this document will be published subsequently in the Order.

Environmental Review

The FAA has determined that this action qualifies for categorical exclusion under the National Environmental Policy Act in accordance with FAA Order 1050.1E, Environmental Impacts: Policies and Procedures, paragraph 311k. This airspace action consists of editorial changes only and is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of the Federal Aviation Administration Order 7400.9Y, Airspace Designations and Reporting Points, dated August 6, 2014, and effective September 15, 2014, is amended as follows:

Paragraph 6010(a)—Domestic VOR Federal Airways

* * * * *

V-31 [Amended]

From Patuxent River, MD; INT Patuxent River 338° and Nottingham, MD, 128° radials; Nottingham. From Baltimore, MD; INT Baltimore 004° and Harrisburg, PA, 147° radials; Harrisburg; Selinsgrove, PA; Williamsport, PA; Elmira, NY; INT Elmira 002° and Rochester, NY, 120° radials; Rochester; to INT Rochester 279° and Buffalo, NY 023° radials.

V-36 [Amended]

From Buffalo, NY; Elmira, NY; INT Elmira 110° and LaGuardia, NY, 310° radials; to INT LaGuardia 310° and Stillwater, NJ, 043° radials.

V-98 [Amended]

From Dayton, OH; INT Dayton 358° and Carleton, MI, 243° radials; to INT Carleton 243° and Waterville, OH, 321° radials.

V-164 [Amended]

From Buffalo, NY; Wellsville, NY; Stonyfork, PA; Williamsport, PA; INT Williamsport 129° and East Texas, PA, 315° radials; to East Texas.

V-252 [Amended]

From INT Buffalo, NY 023° and Geneseo, NY, 305° radials; Geneseo; Binghamton, NY; Huguenot, NY; INT Huguenot 196° and Robbinsville, NJ, 351° radials; Robbinsville; to Dupont, DE.

Issued in Washington, DC, on June 2, 2015.
Gary A. Norek,
Manager, Airspace Policy and Regulations Group.

[FR Doc. 2015-13980 Filed 6-8-15; 8:45 am]

BILLING CODE 4910-13-P